DEPARTMENT OF HOMELAND SECURITY

Federal Emergency Management Agency

[Docket ID FEMA-2022-0002; Internal Agency Docket No. FEMA-B-2216]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Connecticut: Litchfield | Town of Goshen (21-01-1073P) | The Honorable Todd M. Carusillo, First Selectman, Town of Goshen Board of Selectmen, 42A North Street, Goshen CT 06756 | Town Hall, 42A North Street, Goshen, CT 06756 | https://msc.fema.gov/portal/advanceSearch | May 31, 2022 | 090177
Florida:
Broward | City of Deerfield Beach (21-04-3153P) | Mr. Dave Santucci, Manager, City of Deerfield Beach, 150 Northeast 2nd Avenue, Deerfield Beach, FL 33442 | Environmental Services Department, 200 Goolsby Boulevard, Deerfield Beach, FL 33442 | https://msc.fema.gov/portal/advanceSearch | May 16, 2022 | 125101
Broward | City of Tamarac (21-04-2763P) | The Honorable Michelle J. Gomez, Mayor, City of Tamarac, 7525 Northwest 88th Avenue, Tamarac, FL 33321 | Building Department, 7525 Northwest 88th Avenue, Tamarac, FL 33321 | https://msc.fema.gov/portal/advanceSearch | May 23, 2022 | 120058
Lake | City of Minneola (21-04-5355P) | The Honorable Pat Kelley, Mayor, City of Minneola, 800 North U.S. Highway 27, Minneola, FL 34755 | City Hall, 800 North U.S. Highway 27, Minneola, FL 34755 | https://msc.fema.gov/portal/advanceSearch | May 31, 2022 | 120412
Lee | City of Bonita Springs (21-04-4847P) | The Honorable Rick Steinmeyer, Mayor, City of Bonita Springs, 9101 Bonita Beach Road, Bonita Springs, FL 34135 | Community Development Department, 9220 Bonita Beach Road, Suite 111, Bonita Springs, FL 34135 | https://msc.fema.gov/poral/advanceSearch | May 23, 2022 | 120680
Monroe | Unincorporated areas of Monroe County (21-04-4119P) | The Honorable Michelle Coldiron, Commissioner, Monroe County Board of Commissioners, 25 Ships Way, Big Pine Key, FL 33043 | Monroe County Building Department, 2798 Overseas Highway, Suite 300, Marathon, FL 33050 | https://msc.fema.gov/portal/advanceSearch | May 31, 2022 | 125129
Monroe | Unincorporated areas of Monroe County (21-04-5348P) | The Honorable Michelle Coldiron, Commissioner, Monroe County Board of Commissioners, 25 Ships Way, Big Pine Key, FL 33043 | Monroe County Building Department, 2798 Overseas Highway, Suite 300, Marathon, FL 33050 | https://msc.fema.gov/portal/advanceSearch | May 23, 2022 | 125129
Pinellas | Unincorporated areas of Pinellas County (21-04-4469P) | The Honorable David Eggers, Chairman, Pinellas County Board of Commissioners, 315 Court Street, Clearwater, FL 33756 | Pinellas County Building Department, 22211 U.S. Highway 19 North, Building 1, 315 Court Street, Clearwater, FL 33756 | https://msc.fema.gov/portal/advanceSearch | May 26, 2022 | 125139
Sarasota | City of Sarasota (21-04-4914P) | The Honorable Erik Arroyo, Mayor, City of Sarasota, 1565 1st Street, Room 101, Sarasota, FL 34236 | Development Services Department, 1565 1st Street, Sarasota, FL 34236 | https://msc.fema.gov/portal/advanceSearch | May 26, 2022 | 125150
Sarasota | Unincorporated areas of Sarasota County (21-04-4979P) | The Honorable Alan Maio, Chairman, Sarasota County Board of Commissioners, 1660 Ringling Boulevard, Sarasota, FL 34236 | Sarasota County Planning and Development Services Department, 1001 Sarasota Center Boulevard, Sarasota, FL 34240 | https://msc.fema.gov/portal/advanceSearch | May 23, 2022 | 125144
Sumter | City of Wildwood (21-04-4694P) | The Honorable Ed Wolf, Mayor, City of Wildwood, 100 North Main Street, Wildwood, FL 34785 | City Hall, 100 North Main Street, Wildwood, FL 34785 | https://msc.fema.gov/portal/advanceSearch | May 23, 2022 | 120299
Sumter | Unincorporated areas of Sumter County (21-04-4694P) | The Honorable Gary Breeden, Chairman, Sumter County Board of Commissioners, 7375 Powell Road, Wildwood, FL 34785 | Sumter County Development Services Department, 7375 Powell Road, Wildwood, FL 34785 | https://msc.fema.gov/portal/advanceSearch | May 23, 2022 | 120296
Georgia:
Effingham | Unincorporated areas of Effingham County (20-04-5821P) | The Honorable Wesley Corbitt, Chairman at Large, Effingham County Board of Commissioners, 804 South Laurel Street, Springfield, GA 31329 | Effingham County Development Services Department, 804 South Laurel Street, Springfield, GA 31329 | https://msc.fema.gov/portal/advanceSearch | Apr. 28, 2022 | 130076
Muscogee | Columbus Consolidated Government (21-04-2724P) | The Honorable B.H. “Skip” Henderson III, Mayor, Columbus Consolidated Government, 100 10th Street, Columbus, GA 31901 | Planning Department, 420 10th Street, 2nd Floor, Columbus, GA 31901 | https://msc.fema.gov/portal/advanceSearch | May 6, 2022 | 135158
Kentucky: Hardin | City of Elizabethtown (21-04-1017P) | The Honorable Jeffrey H. Gregory, Mayor, City of Elizabethtown, 200 West Dixie Avenue, Elizabethtown, KY 42702 | Stormwater Management Department, 200 West Dixie Avenue, Elizabethtown, KY 42702 | https://msc.fema.gov/portal/advanceSearch | May 25, 2022 | 210095
Maine: York | Town of York (21-01-1032P) | The Honorable Todd A. Frederick, Chairman, Town of York Board of Selectmen, 186 York Street, York, ME 03909 | Building Department, 186 York Street, York, ME 03909 | https://msc.fema.gov/portal/advanceSearch | Apr. 28, 2022 | 230159
North Carolina:
Davie | Unincorporated areas of Davie County (21-04-2539P) | The Honorable Terry Renegar, Chairman, Davie County, Board of Commissioners, 123 South Main Street, Mocksville, NC 27028 | Davie County Development Services Department, 172 Clement Street, Mocksville, NC 27028 | https://msc.fema.gov/portal/advanceSearch | Apr. 15, 2022 | 370308
Mecklenburg | Town of Davidson (21-04-5219P) | The Honorable Rusty Knox, Mayor, Town of Davidson, P.O. Box 579, Davidson, NC 20836 | Planning Department, 216 South Main Street, Davidson, NC 20836 | https://msc.fema.gov/portal/advanceSearch | Apr. 27, 2022 | 370503
Mecklenburg | Unincorporated areas of Mecklenburg County (21-04-5219P) | Ms. Dena R. Diorio, Mecklenburg County Manager, 600 East 4th Street, Charlotte, NC 28202 | Mecklenburg County Storm Water Services Division, 2145 Suttle Avenue, Charlotte, NC 28202 | https://msc.fema.gov/portal/advanceSearch | Apr. 27, 2022 | 370158
Texas:
Collin | City of Wylie (21-06-2443P) | The Honorable Matthew Porter, Mayor, City of Wylie, 300 Country Club Road, Building 100, Wylie, TX 75098 | City Hall, 300 Country Club Road, Building 100, Wylie, TX 75098 | https://msc.fema.gov/portal/advanceSearch | May 9, 2022 | 480759
Collin | Unincorporated areas of Collin County (21-06-2443P) | The Honorable Chris Hill, Collin County Judge, 2300 Bloomdale Road, Suite 4192, McKinney, TX 75071 | Collin County Engineering Department, 4690 Community Avenue, Suite 22, McKinney, TX 75071 | https://msc.fema.gov/portal/advanceSearch | May 9, 2022 | 480130
Denton | Town of Northlake (21-06-1777P) | The Honorable David Rettig, Mayor, Town of Northlake, 1500 Commons Circle, Suite 300, Northlake, TX 76226 | Town Hall, 1500 Commons Circle, Suite 300, Northlake, TX 76226 | https://msc.fema.gov/portal/advanceSearch | Jun. 6, 2022 | 480782
Johnson | City of Burleson (21-06-2590P) | The Honorable Chris Fletcher, Mayor, City of Burleson, 141 West Renfro Street, Burleson, TX 76028 | City Hall, 141 West Renfro Street, Burleson, TX 76028 | https://msc.fema.gov/portal/advanceSearch | Jun. 2, 2022 | 485459

[FR Doc. 2022-03856 Filed 2-23-22; 8:45 am]

BILLING CODE 9110-12-P